DEPARTMENT OF HEALTH AND HUMAN SERVICES

National Institutes of Health

Proposed Collection; 60-Day Comment Request; NIH Division of Police Law Enforcement Forms (Office of the Director)

AGENCY: National Institutes of Health, HHS.

ACTION: Notice.

SUMMARY: In compliance with the requirement of the Paperwork Reduction Act of 1995 to provide opportunity for public comment on proposed data collection projects, the National Institutes of Health (NIH) Office of the Director (OD) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Peter “Rocky” Whitesell, PRA Liaison, DQMP/OAM/OD/ORS/OM/OD/NIH, 31 Center Drive, Bethesda, MD 20892-2140 or call the non-toll-free number 240-541-1165 or email your request, including your address to: peter.whitesell@nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: NIH Division of Police Law Enforcement Forms, 0925-NEW, Office of Security and Emergency Response (OSER), Office of the Director (OD), National Institutes of Health (NIH).

Need and Use of Information Collection: The purpose of the submitted forms is to enable the continued operation of normal NIH Division of Police functions. The first form is for collecting statements and affidavits relating to incidents on campus, i.e., chronology of events, perspectives, etc. from witnessing parties. The second form is a police warning issued on campus by officers, to be signed by the person warned for different infractions, and potentially a recognition they are banned from campus. The third form is an authorization for release of information given out to potential hires with the NIH Division of Police, so that suitability for hiring can be determined with a normal background check. The fourth, fifth, and sixth forms are for collecting application information for extended visitor access on campus, for patients, non-patient professionals (such as researchers or those conducting business), and non-patient non-professionals (such as patient visitors) respectively who have a need to more easily access campus for some period of time. These three forms allow an alternative to acquiring temporary access badges repeatedly.

OMB approval is requested for 3 years. There are no costs to respondents other than their time. The total estimated annualized burden hours are 3,209.

Estimated Annualized Burden Hours
Form name | Type of respondent | Number of respondents | Number of responses per respondent | Average burden per response (in hours) | Total annual burden (in hours)
1—NIH Police Statement and Affidavit | Individuals | 20 | 1 | 10/60 | 3
2—NIH Police Warning Notice | Individuals | 258 | 1 | 10/60 | 43
3—NIH Police Authorization for Release of Information | Individuals | 15 | 1 | 10/60 | 3
4—NIH Police Officer Candidate Application | Individuals | 15 | 1 | 8 | 120
5—NIH Extended Visitor Form (Patient) | Individuals | 11,180 | 1 | 10/60 | 1,863
6—NIH Extended Visitor Form (Non-Patient) | Individuals | 4,560 | 1 | 10/60 | 760
7—NIH Extended Visitor Form (Generic) | Individuals | 2,500 | 1 | 10/60 | 417
Totals |  |  | 18,548 |  | 3,209

Dated: January 3, 2025.
Lawrence A. Tabak,
Principal Deputy Director, National Institutes of Health.

[FR Doc. 2025-00650 Filed 1-14-25; 8:45 am]

BILLING CODE 4140-01-P